DEPARTMENT OF DEFENSE

Department of the Army

[Docket ID USA-2014-0003]

Privacy Act of 1974; System of Records

AGENCY: Department of the Army, DoD.

ACTION: Notice to delete two Systems of Records.

SUMMARY: The Department of the Army is deleting two systems of records notices in its existing inventory of record systems subject to the Privacy Act of 1974, as amended. The two systems being deleted are A0015-8 ASA (ALT), Army Science Board (ASB) Files; and A0095-2d TRADOC-ATC, Air Traffic Controller/Air Traffic Control Maintenance Technician Records.

DATES: Comments will be accepted on or before April 11, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905 or by calling (703) 428-6185.

SUPPLEMENTARY INFORMATION: The Department of the Army systems of records notices subject to the Privacy Act of 1974, (5 U.S.C. 552a), as amended, have been published in the Federal Register and are available from the address in FOR FURTHER INFORMATION CONTACT or at http://dpclo.defense.gov/. The Department of the Army proposes to delete two systems of records notices from its inventory of record systems subject to the Privacy Act of 1974 (5 U.S.C. 552a), as amended. The proposed deletion is not within the purview of subsection (r) of the Privacy Act of 1974 (5 U.S.C. 552a), as amended, which requires the submission of a new or altered system report.

Dated: March 7, 2014.
Aaron Siegel,
Alternate OSD Federal Register Liaison Officer, Department of Defense.

DELETIONS:

A0015-8 ASA (ALT)

Army Science Board (ASB) Files (April 21, 2006, 71 FR 20650).

Reason:

The program using this system of records notice has been discontinued and records are no longer collected and have met the approved NARA retention schedule; therefore, the system of records notice, A0015-8 ASA (ALT), Army Science Board (ASB) Files can be deleted.

A0095-2d TRADOC-ATC

Air Traffic Controller/Air Traffic Control Maintenance Technician Records (July 7, 2008, 73 FR 38417).

Reason:

This system was consolidated with the system of records covered by notice A0095-1a TRADOC, Centralized Aviation Flight Records System (CAFRS) (June 29, 2010, 75 FR 37410); therefore, the system of records notice, A0095-2d TRADOC-ATC, Air Traffic Controller/Air Traffic Control Maintenance Technician Records can be deleted.

[FR Doc. 2014-05397 Filed 3-11-14; 8:45 am]

BILLING CODE 5001-06-P